NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for Quark Expeditions' cruise ships to conduct a number of activities, including: Shore excursions via zodiac, camping ashore or extended stays, mountaineering, kayaking, cross country skiing, and downhill skiing. The application is submitted by Quark Expeditions of Waterbury, Vermont and submitted to NSF pursuant to regulations issued under the Antarctic Conservation Act of 1978.

DATES: Interested parties are invited to submit written data, comments, or views with respect to this permit application by September 5, 2012. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-8030.

SUPPLEMENTARY INFORMATION: NSF's Antarctic Waste Regulation, 45 CFR Part 671, requires all U.S. citizens and entities to obtain a permit for the use or release of a designated pollutant in Antarctica, and for the release of waste in Antarctica. NSF has received a permit application under this Regulation for conduct of activities such as shore excursions, camping, where emergency provisions will be taken ashore that would include cook stoves, fuel, radios, batteries, etc. and may include the generation of waste. In addition, mountaineering activities that would include use of emergency provisions, crampons, ice axes, climbing harnesses, screw-gated carabiners, prusik slings, and climbing helmets.

Designated pollutants that would be associated with the various excursions are typically air emissions and waste water (urine, grey-water, and human solid waste. All wastes would be packaged and removed to the ship(s) for proper disposal in Chile or the U.S. under approved guidelines prior to the end of each season.

The permit: Eric Stangeland, Executive VP Operations, Quark Expeditions, Inc., Waterbury, VT Permit application No. 2012 WM-004.

Nadene G. Kennedy,
Permit Officer.

[FR Doc. 2012-19116 Filed 8-3-12; 8:45 am]

BILLING CODE 7555-01-P